DEPARTMENT OF LABOR

Employment and Training Administration

[TA-W-41,451]

Powerex, Inc., Youngwood, Pennsylvania; Notice of Revised Determination on Reconsideration

By application of December 5, 2002, the company requested administrative reconsideration regarding the Department's Negative Determination Regarding Eligibility to Apply for Worker Adjustment Assistance, applicable to the workers of the subject firm.

The initial investigation resulted in a negative determination issued on November 4, 2002, based on the finding that imports of rectifiers and thyristors did not contribute importantly to worker separations at the subject firm plant. The denial notice was published in the Federal Register on November 22, 2002 (67 FR 70460).

To support the request for reconsideration, the petitioner supplied additional information to supplement that which was gathered during the initial investigation. Upon further review and contact with two major declining customers, it was revealed that these customers either increased their imports absolutely or increased their reliance on imports of like or directly competitive products in the relevant period.

Conclusion

After careful review of the additional facts obtained on reconsideration, I conclude that increased imports of articles like or directly competitive with those produced at Powerex, Youngwood, Pennsylvania, contributed importantly to the declines in sales or production and to the total or partial separation of workers at the subject firm. In accordance with the provisions of the Act, I make the following certification:

All workers of Powerex, Youngwood, Pennsylvania, who became totally or partially separated from employment on or after March 8, 2002 through two years from the date of this certification, are eligible to apply for adjustment assistance under Section 223 of the Trade Act of 1974.

Signed in Washington, DC, this 17th day of April, 2003.
Elliott S. Kushner,
Certifying Officer, Division of Trade Adjustment Assistance.

[FR Doc. 03-10741 Filed 4-30-03; 8:45 am]

BILLING CODE 4510-30-P